NATIONAL ARCHIVES AND RECORDS ADMINISTRATION

Information Quality Guidelines; Request for Comment

AGENCY: National Archives and Records Administration (NARA).

ACTION: Notice of availability of draft guidelines; request for comment.

SUMMARY: NARA is seeking public comment on the draft Information Quality Guidelines. The Guidelines contain NARA's standards of quality, utility, objectivity, and integrity for information that is disseminated to the public, and the administrative procedures for preparing, reviewing, and correcting information products. The Guidelines also describe the mechanisms for the public to request correction of information, and to request reconsideration of a NARA decision to deny a request for correction. NARA will consider public comments in developing the final Information Quality Guidelines.

The report is available electronically at http://www.nara.gov/nara/pubcom.html. For a paper copy of the report, contact the person listed in FOR FURTHER INFORMATION CONTACT.

DATES: Comments must be received by May 31, 2002.

ADDRESSES: Comments must be sent to Regulation Comments Desk (NPOL), Room 4100, Policy and Communications Staff, National Archives and Records Administration, 8601 Adelphi Road, College Park, MD 20740-6001. They may be faxed to 301-837-0312. You may also send your comments to comments@NARA.GOV. Please include “Attn: Info Quality” in the subject line and your name and return address in your Internet message. If you do not receive a confirmation from the system that we have received your Internet message, contact the Regulation Comments desk at 301-837-1948.

FOR FURTHER INFORMATION CONTACT: John Martinez at 301-837-1948.

SUPPLEMENTARY INFORMATION: The Office of Management and Budget (OMB) issued Government-wide guidelines under section 515 of the Treasury and General Government Appropriations Act for Fiscal Year 2001 (Pub. L. 106554) to ensure and maximize the quality, objectivity, utility and integrity of information disseminated by Federal agencies. Each Federal agency is responsible for issuing its own section 515 guidelines. Subsequently, the National Archives and Records Administration (NARA) has developed corresponding information quality guidelines.

Dated: April 24, 2002.
Nancy Allard,
Federal Register Liaison.

[FR Doc. 02-10587 Filed 4-29-02; 8:45 am]

BILLING CODE 7515-01-P